DEPARTMENT OF ENERGY

Federal Energy Regulatory Commission

[Docket No. RP04-225-000]

Columbia Gas Transmission Corporation; Notice of Proposed Changes in Ferc Gas Tariff

March 26, 2004.

Take notice that on March 23, 2004, Columbia Gas Transmission Corporation(Columbia), tendered for filing as part of its FERC Gas Tariff, Second Revised Volume No. 1, Eleventh Revised Sheet No. 281, with a proposed effective date of April 22, 2004.

Columbia states it is making the filing to revise its right of first refusal (ROFR) provisions in General Terms and Conditions Section 4 of its Tariff to more explicitly delineate when a shipper must exercise its ROFR, through making the timeline for exercising ROFR where there are no bids for capacity comparable to the existing timeline for exercising ROFR when bids have been received.

Columbia Gas states that copies of its filing and have been mailed to all firm customers, interruptible customers, and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-735 Filed 3-31-04; 8:45 am]

BILLING CODE 6717-01-P